DEPARTMENT OF HOMELAND SECURITY

Coast Guard

33 CFR Part 165

[Docket No. USCG-2024-0565]

Safety Zones; Annual Fireworks Displays Within the Captain of the Port, Puget Sound Area of Responsibility—Dyes Inlet

AGENCY: Coast Guard, DHS.

ACTION: Notification of enforcement of regulation.

SUMMARY: The Coast Guard will enforce a safety zone near Dyes Inlet, WA for an annual firework display in the Captain of the Port, Sector Puget Sound area of responsibility on July 26, 2024, to provide for the safety of life on navigable waterways during this event. Our regulation for marine events within the Thirteenth Coast Guard District identifies the regulated area for this event near Dyes Inlet, WA. No vessel operator may enter, transit, moor, or anchor within the safety zone, except for vessels authorized by the Captain of the Port, Sector Puget Sound or a Designated Representative.

DATES: The regulations in 33 CFR 165.1332 will be enforced for the for the Whaling Days regulated area listed in the Table to § 165.1332 from 9 until 11 p.m. on July 26, 2024.

FOR FURTHER INFORMATION CONTACT: If you have questions about this notification of enforcement, call or email LTJG Kaylee Lord at 206-217-6045, or email Sector Puget Sound Waterways Management at SectorPugetSoundWWM@uscg.mil.

SUPPLEMENTARY INFORMATION: The Coast Guard will enforce special local regulations in 33 CFR 165.1332 for the Dyes Inlet regulated area from 9 until 11 p.m. on July 26, 2024. This action is being taken to provide for the safety of life on navigable waterways during this event. Our regulation for marine events within the Thirteenth Coast Guard District, § 165.1332, specifies the location of the regulated area for the Whaling Days event in Dyes Inlet, WA. The special requirements listed in 33 CFR 165.1332(b) apply to the activation and enforcement of the safety zone. During the enforcement periods, as reflected in § 165.1332(c), no vessel operator may enter, transit, moor, or anchor within the safety zone, except for vessels authorized by the Captain of the Port, Sector Puget Sound or Designated Representative.

In addition to this notification of enforcement in the Federal Register, the Coast Guard plans to provide notification of this enforcement period via marine information broadcasts and Local Notice to Mariners. If the Safety Zone is canceled earlier than listed in this regulation, notification will be provided via Local Notice to Mariners and marine information broadcasts.

Dated: July 5, 2024.
Mark A. McDonnell,
Captain, U.S. Coast Guard, Captain of the Port Sector Puget Sound.

[FR Doc. 2024-15322 Filed 7-11-24; 8:45 am]

BILLING CODE 9110-04-P